DEPARTMENT OF TRANSPORTATION

Transportation Security Administration

Operation Safe Commerce Cooperative Agreement Program; Request for Application and Establishing the Closing Date for Receipt of Applications Under the Operation Safe Commerce Cooperative Agreement Program

AGENCY: Transportation Security Administration, Department of Transportation.

ACTION: Notice inviting applications for the Operation Safe Commerce Cooperative Agreement Program

SUMMARY: The Transportation Security Administration working in conjunction with an interagency Executive Steering Committee for Operation Safe Commerce (OSC) requests applications for the OSC Cooperative Agreement Program to fund business drive initiatives to enhance security for the movement of cargo through the supply chain. The goal of OSC is to explore business processes and technology prototypes that protect commercial shipments from threat of terrorist attack, illegal immigration, and contraband while minimizing the economic impact upon the transportation system. The Ports of Los Angeles, Long Beach, Seattle, Tacoma, and the Port Authority of New York and New Jersey are invited to submit proposals for funding consideration under this initiative. Persons and entities representing components of the supply chain may seek funding through these ports. The ports are encouraged to maximize their eligibility for funding by including representatives from all components of the supply chain, including major and minor load centers and feeder locations, their overseas customers and port partners, and the shipping lines serving these locations.

Authority for this program is contained in the fiscal year 2002 Supplemental Appropriations Act for Further Recovery From and Response to Terrorist Attacks on the United States, Pub. L. 107-206, 116 Stat. 820.

DATES: The program announcement and application forms for the Operation Safe Commerce Cooperative Agreement Program are expected to be available on or about January 31, 2003. Applications must be received on or before 4 p.m. e.s.t., Marcy 20, 2003.

ADDRESSES: Program Announcement #02MLPA0001 for the Operation Safe Commerce Cooperative Agreement Program will be available through the TSA Internet at http://www.tsa.dot.gov under Business Opportunities.

FOR FURTHER INFORMATION CONTACT: For OSC technical information contact: Walter (Bud) Hunt, Office of Maritime and Land Security, Transportation Security Administration, 400 Seventh Street, SW., TSA-8, Washington, DC 20590; email: OSC@tsa.dot.gov, telephone 571-227-1200. For OSC Cooperative Agreement Program contact: Ronald Ouellet, Office of Maritime and Land Security, Transportation Security Administration, 400 Seventh Street, SW., TSA-8, Washington, DC 20590; email: OSC@tsa.dot.gov,; telephone 571-227-1200.

SUPPLEMENTARY INFORMATION: 64 FR 70110, November 20, 2002, provided background information and requested comments on the proposed project criteria for Operation Safe Commerce.

Total anticipated funding available for Operation Safe Commerce Cooperative Agreement Program is $26,040,000. Awards under this program are subject to availability of funds.

In addition, the OSC Executive Steering Committee and the Transportation Security Administration announces a non-funded federal program under OSC. This non-funded OSC Associates program seeks to capture lessons learned from private and public efforts to secure the supply chain. This program will be open to organizations that accept certain minimal requirements to be set forth by the ESC. In return, the ESC and TSA will review their efforts and, if appropriate, will include them in the final report on OSC.

Dated: January 23, 2003.
J.M. Loy, Adm,
Under Secretary of Transportation for Security.

[FR Doc. 03-1918 Filed 1-30-03; 8:45 am]

BILLING CODE 4110-62-M